DEPARTMENT OF HOMELAND SECURITY

Coast Guard

33 CFR Part 160

[Docket No. USCG-2022-0282]

Special Local Regulations; Charleston Race Week, Charleston, SC

AGENCY: Coast Guard, DHS.

ACTION: Notice of enforcement of regulation.

SUMMARY: The Coast Guard will enforce special local regulations for the Charleston Race Week from April 28 through May 1, 2022. This action is necessary to ensure the safety of life on navigable waters of the United States during the Charleston Race Week event. Our regulation for marine events within the Seventh Coast Guard District identifies the regulated area for this event in Charleston, SC. During the enforcement period, no person or vessel may enter, transit through, anchor in, or remain within the designated area unless authorized by the Captain of the Port Charleston (COTP) or a designated representative.

DATES: The regulations in 33 CFR 100.704, Table 1 to § 100.704, Item No. 2 will be enforced from 9 a.m. until 5 p.m. from April 28 to May 1, 2022.

FOR FURTHER INFORMATION CONTACT: If you have questions about this notice of enforcement, call or email LCDR Chad Ray, Sector Charleston Office of Waterways Management, Coast Guard; telephone (843) 740-3184, email Chad.L.Ray@uscg.mil.

SUPPLEMENTARY INFORMATION: The Coast Guard will enforce 33 CFR 100.704, Table 1 to § 100.704, Item No. 2 for the Charleston Race Week regulated area from 9 a.m. to 5 p.m. from April 28 to May 1, 2022. This action is being taken to provide for the safety of life on navigable waterways during this 4-day event. Our regulation for marine events within the Captain of the Port Charleston, § 100.704, specifies the locations of the regulated areas for the Charleston Race Week which encompasses portions of the Charleston Harbor. During the enforcement periods, as reflected in § 100.100(c), if you are the operator of a vessel in the regulated area you must comply with directions from the Patrol Commander or any Official Patrol displaying a Coast Guard ensign.

Dated: April 22, 2022.
J.D. Cole,
Captain, U.S. Coast Guard, Captain of the Port Charleston.

[FR Doc. 2022-09213 Filed 4-28-22; 8:45 am]

BILLING CODE 9110-04-P